DEPARTMENT OF STATE

[Public Notice 9174]

Notice of Intent To Prepare an Environmental Assessment for the NuStar Burgos Pipelines Projects

AGENCY: Department of State.

ACTION: Notice; solicitation of comments.

SUMMARY: The U.S. Department of State (the Department) is issuing this Notice of Intent (NOI) to inform the public that it intends to prepare an environmental assessment (EA) consistent with the National Environmental Policy Act of 1969 (NEPA) (as implemented by the Council on Environmental Quality Regulations found at 40 CFR parts 1500-1508) to evaluate the potential impacts of the construction and operation of a proposed new NuStar Burgos pipeline and a proposed change in petroleum products for an existing Burgos pipeline. In December 2014, NuStar submitted two applications to the Department. One application requests a new Presidential Permit allowing changes to the operation of an existing 8-inch outer diameter pipeline (the Existing Burgos pipeline) at the United States-Mexico border, as well as a name change of the owner and operator. The other application requests a new Presidential Permit for construction, connection, operation, and maintenance of a new 10-inch outer diameter pipeline and associated facilities parallel to the Existing Burgos pipeline also at the United States-Mexico border (the New Burgos pipeline). Both pipelines would connect the Petroleos Mexicanos (PEMEX) Burgos Gas Plant near Reynosa, Tamaulipas, Mexico and the NuStar terminal near Edinburg, Texas. This NOI informs the public about the proposed projects and solicits participation and comments from interested federal, tribal, state, and local government entities and the public for consideration in establishing the scope and content of the environmental review.

Project Description:

Proposed Changes to the Existing Burgos Pipeline

NuStar has applied for a new Presidential Permit to replace a 2006 Presidential Permit, that would: (1) Reflect NuStar's name change from Valero Logistics Operations, L.P. to NuStar Logistics, L.P. as the owner and operator of the Existing Burgos pipeline and (2) allow the Existing Burgos pipeline border facilities to transport a broader range of petroleum products than allowed by the 2006 Presidential Permit, including liquefied petroleum gas and natural gas liquids. The 2006 Presidential Permit only allows transportation of light naphtha.

The U.S. portion of the Existing Burgos pipeline is approximately 34 miles long, running between a location on the Rio Grande southeast of Peñitas, Texas and the NuStar terminal approximately 6 miles north of downtown Edinburg, Texas. The pipeline crosses under the Rio Grande. The border segment of the pipeline extends from the center line of the Rio Grande approximately 8,450 feet (1.6 miles) to the first mainline shut-off valve in the United States. The Mexican portion of the Existing Burgos pipeline runs approximately 12.5 miles between the Rio Grande crossing and the PEMEX Burgos Gas Plant. Maximum throughput based on the design of the pipe is 64,000 barrels per day (bpd).

Proposed New Burgos Pipeline

NuStar has also applied for a new Presidential Permit to construct, connect, operate, and maintain a new pipeline and associated facilities at the U.S.-Mexico border for the transportation of a broad range of petroleum products, including liquefied petroleum gas and natural gas liquids. NuStar proposes to construct the New Burgos pipeline parallel to the Existing Burgos pipeline and, to the extent possible, in the same right-of-way. The border segment subject to a Presidential Permit, if granted, would extend from the center line of the Rio Grande approximately 8,450 feet (1.6 miles) to the first mainline shut-off valve planned for construction in the United States. Maximum throughput based on the design of the pipe would be 108,000 bpd.

Project Location: The U.S. portion of the proposed projects is located in Hidalgo County, Texas.

Environmental Effects: The environmental review will describe the environmental impacts of the proposed actions; any adverse environmental impacts that cannot be avoided should the proposals be implemented; the reasonable alternatives to the proposed actions; comparison between short-term and long-term impacts on the environment; any irreversible and irretrievable commitments of natural, physical or other resources that would occur if the proposed actions are implemented, and any proposed mitigation measures if needed. The analysis will focus on air quality, biological resources, cultural resources, geology and soils, greenhouse gas emissions, hazards and hazardous materials, potential accidents and spills, hydrology and water quality, noise, socioeconomics, environmental justice, transportation and any other topics that arise during scoping.

While the President has delegated authority to the Department to issue permits for pipeline facilities at the U.S. border, the environmental review will analyze impacts of the proposed projects in the United States that are dependent upon Permit issuance.

Scoping Period: The Department invites the public, governmental agencies, tribal governments and all other interested parties to comment on the scope of the EA. All such comments should be provided in writing, within thirty (30) days of the publication of this notice, at the address listed below. The comment period for the NOI begins on June 25, 2015 and ends on July 27, 2015.

Solicitation of Comments: All comments in response to the NOI must be submitted by July 27, 2015. Comments may be submitted at www.regulations.gov by entering the title of this Notice into the search field and following the prompts. Comments may also be submitted by U.S. mail and should be addressed to: NuStar Burgos Project Manager, U.S. Department of State, 2201 C Street NW., Room 2726, Washington, DC 20520. All comments from agencies or organizations should indicate a contact person for the agency or organization.

All comments received during the scoping period may be made public, no matter how initially submitted. Comments are not private and will not be edited to remove identifying or contact information. Commenters are cautioned against including any information that they would not want publicly disclosed. Any party soliciting or aggregating comments from other persons is further requested to direct those persons not to include any identifying or contact information, or information they would not want publicly disclosed, in their comments.

FOR FURTHER INFORMATION CONTACT: The NuStar Burgos Presidential Permit applications that provide project details are available at the following Web site: http://www.state.gov/e/enr/applicant/applicants/c66757.htm. Information on the Presidential Permit process is available on the following Web site: http://www.state.gov/e/enr/applicant/applicants/. Please refer to this Web site or contact the Department at the address listed in the Solicitation of Comments section of this notice.

Dated: June 19, 2015.
Deborah Klepp,
Director, Office of Environmental Quality and Transboundary Issues, Department of State.

[FR Doc. 2015-15676 Filed 6-24-15; 8:45 am]

BILLING CODE 4710-09-P